DEPARTMENT OF HOMELAND SECURITY

Federal Emergency Management Agency

Agency Information Collection Activities: Proposed Collection; Comment Request

[Docket ID: FEMA-2009-0001]

AGENCY: Federal Emergency Management Agency, DHS.

ACTION: Notice; 60-day notice and request for comments; revision of a currently approved collection; OMB No. 1660-0009; No Form.

SUMMARY: The Federal Emergency Management Agency, as part of its continuing effort to reduce paperwork and respondent burden, invites the general public and other Federal agencies to take this opportunity to comment on a proposed extension, without change, of a currently approved information collection. In accordance with the Paperwork Reduction Act of 1995, this Notice seeks comments concerning a Governor's request for a major disaster or an emergency declaration by the President.

DATES: Comments must be submitted on or before May 12, 2009.

ADDRESSES: To avoid duplicate submissions to the docket, please use only one of the following means to submit comments:

(1) Online. Submit comments at http://www.regulations.gov under docket ID FEMA-2009-0001. Follow the instructions for submitting comments.

(2) Mail. Submit written comments to Office of Chief Counsel, Regulation and Policy Team, DHS/FEMA, 500 C Street, SW., Room 835, WASH, DC 20472-3100.

(3) Facsimile. Submit comments to (703) 483-2999.

(4) E-mail. Submit comments to FEMA-POLICY@dhs.gov. Include docket ID FEMA-2009-0001 in the subject line.

All submissions received must include the agency name and docket ID. Regardless of the method used for submitting comments or material, all submissions will be posted, without change, to the Federal eRulemaking Portal at http://www.regulations.gov, and will include any personal information you provide. Therefore, submitting this information makes it public. You may wish to read the Privacy Act notice that is available on the Privacy and Use Notice link on the Administration Navigation Bar of http://www.regulations.gov.

FOR FURTHER INFORMATION CONTACT: Contact Peggy Miller, Branch Chief, Declarations Unit, Federal Emergency Management Agency, 500 C Street, SW., Washington, DC 20472, telephone number (202) 646-3886 for additional information. You may contact the Records Management Branch for copies of the proposed collection of information at facsimile number (202) 646-3347 or e-mail address: FEMA-Information-Collections@dhs.gov.

SUPPLEMENTARY INFORMATION: The Robert T. Stafford Disaster Relief and Emergency Assistance Act, 42 U.S.C. 5121-5207, as amended (the Stafford Act), requires that all requests for a major disaster or an emergency declaration by the President must be made by the Governor of the affected State. Section 401 of the Act stipulates specific information the Governor must submit with a request for any major disaster or emergency declaration. Section 501(a) of the Act stipulates specific information the Governor must submit with a request for any emergency declaration. Section 403(c) of the Act authorizes emergency assistance, without a Presidential declaration, through the utilization of Department of Defense personnel and resources. Information needed to process the request from the Governor is set forth in 44 CFR Part 206.35 and 206.36.

Collection of Information

Title: The Declaration Process: Requests for Preliminary Damage Assessment, Federal Disaster Assistance, Cost Share Adjustment, and Appeals.

Type of Information Collection: Revision of a currently approved collection.

OMB Number: 1660-0009.

Form Titles and Numbers: No Form.

Abstract: When a disaster occurs in a State, the Governor of the State or the Acting Governor in his/her absence, may request a major disaster declaration or an emergency declaration. The Governor should submit the request to the President through the appropriate Regional Administrator to ensure prompt acknowledgement and processing. The information obtained by joint Federal, State, and local preliminary damage assessments will be analyzed by FEMA regional senior level staff. The regional summary and the regional analysis and recommendation shall include a discussion of State and local resources and capabilities, and other assistance available to meet the disaster related needs. The Administrator of FEMA provides a recommendation to the President and also provides a copy of the Governor's request. In the event the information required by law is not contained in the request, the Governor's request cannot be processed and forwarded to the White House. In the event the Governor's request for a major disaster declaration or an emergency declaration is not granted, the Governor may appeal the decision.

Affected Public: “State, Local or Tribal Governments”.

Estimated Total Annual Burden Hours: 25,536.

Table A.12—Estimated Annualized Burden Hours and Costs
Type of respondent | Form name/ form No. | No. of respondents | No. of responses per respondent | Avg. burden per response (in hours) | Total annual burden (in hours) | Avg. hourly wage rate | Total annual respondent cost
State, Local or Tribal Government | Governor's Request/No Form | 56 | 6 | 76 | 25,536 | $46.91 | $1,197,893.76
Total |  | 56 |  |  | 25,536 |  | 1,197,893.76

Estimated Cost: The estimated annualized cost to respondents based on wage rate categories is $1,197,893.76.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Larry Gray,
Director, Records Management Division, Office of Management, Federal Emergency Management Agency, Department of Homeland Security.

[FR Doc. E9-5504 Filed 3-12-09; 8:45 am]

BILLING CODE 9111-23-P